DEPARTMENT OF THE INTERIOR

Fish and Wildlife Service

[Docket No. FWS-R6-ES-2014-0048; FF06E220000-178-FXES11140600000]

Endangered and Threatened Wildlife and Plants; Incidental Take Permit and Habitat Conservation Plan for the R-Project Transmission Line; Final Environmental Impact Statement

AGENCY: Fish and Wildlife Service, Interior.

ACTION: Notice of availability.

SUMMARY: We, the U.S. Fish and Wildlife Service (Service), announce the availability of the final environmental impact statement (EIS), final habitat conservation plan (HCP), and associated documents for the R-Project transmission line in north-central Nebraska. The Nebraska Public Power District (NPPD) applied for an incidental take permit for take of the American burying beetle (Nicrophorus americanus), which is listed as endangered under the Endangered Species Act of 1973 (ESA), as amended. The permit would authorize take likely to result from the construction, operation, and maintenance of the transmission line. The HCP describes the applicant's actions and required measures to minimize, mitigate, and monitor incidental take. The final EIS analyzes the effects of authorizing the take and implementation of the HCP on the natural and human environment in accordance with the National Environmental Policy Act (NEPA).

DATES: Our decision whether to issue the permit will occur no sooner than 30 days after the U.S. Environmental Protection Agency publishes its notice of the final EIS in the Federal Register. We will document our decision in a record of decision (ROD).

ADDRESSES: You may obtain copies of the documents by any of the following methods:

Internet: Federal eRulemaking Portal (http://www.regulations.gov) under Docket No. FWS-R6-ES-2014-0048.

Upon Request: You may call 308-382-6468 (extension 204) to request alternative formats of the documents or make an appointment to inspect the documents during normal business hours at U.S. Fish and Wildlife Service, Nebraska Field Office, 9325 South Alda Road, Wood River, NE 68883.

In Person:

• North Platte Public Library, 120 West 4th Street, North Platte, Nebraska.

• Logan County Library, 317 Main Street, Stapleton, Nebraska.

• Hooker County Library, 102 North Cleveland Avenue, Mullen, Nebraska.

• Garfield County Library, 217 G Street, Burwell, Nebraska.

• Ewing Township Library, 202 East Nebraska, Ewing, Nebraska.

• Ainsworth Public Library, 455 North Main Street, Ainsworth, Nebraska.

• Valentine Public Library, 324 North Main Street, Valentine, Nebraska.

• Thomas County Library, 501 Main Street, Thedford, Nebraska.

FOR FURTHER INFORMATION CONTACT: Drue DeBerry, 303-236-4774 or RProject_FEIS@fws.gov (email). If you use a telecommunications device for the deaf, hard-of-hearing, or speech disabled, please call the Federal Relay Service at 800-877-8339.

SUPPLEMENTARY INFORMATION: This notice announces that the final EIS, HCP, and associated documents for the R-Project transmission line in Nebraska is available for the public to read. NPPD applied for a permit to authorize incidental take of the federally endangered American burying beetle resulting from the construction, operation, and maintenance of the proposed R-Project transmission line and substations. As part of its application, NPPD prepared an HCP that describes actions to avoid, minimize, mitigate, and monitor impacts of incidental take of the American burying beetle. According to NEPA (42 U.S.C. 4321 et seq.) and its implementing regulations (40 CFR 1500 et seq.), we analyze in the final EIS the effects of our preferred alternative to authorize incidental take of the beetle and NPPD's implementation of the HCP required by the permit. The final EIS also analyzes potential effects from two alternatives and identifies alternatives that we considered but eliminated from further analysis.

Background

Section 9 of the ESA prohibits take of fish and wildlife species listed as endangered (16 U.S.C. 1538). Under section 3 of the ESA, the term “take” means to “harass, harm, pursue, hunt, shoot, wound, kill, trap, capture, or collect, or attempt to engage in any such conduct” (16 U.S.C. 1532(19)).

Under section 10(a)(1)(B) of the ESA (16 U.S.C. 1539(a)(1)(B)), the Service may issue permits to authorize take of listed fish and wildlife species that is incidental to, and not the purpose of, carrying out an otherwise lawful activity. The Service shall issue an incidental take permit to non-Federal entities, provided the following criteria are met:

• The taking will be incidental.

• The applicant will minimize and mitigate, to the maximum extent practicable, the impact of such taking.

• The applicant will develop an HCP and ensure that adequate funding for the plan will be provided.

• The taking will not appreciably reduce the likelihood of the survival and recovery of the species in the wild.

• The applicant will carry out any other measures that the Secretary of the Interior may require as being necessary or appropriate for the purposes of the HCP.

Regulations governing permits for endangered species are set forth in title 50 of the Code of Federal Regulations (CFR) at part 17, section 17.22 (50 CFR 17.22).

NEPA requires that Federal agencies analyze their proposed actions to determine whether the actions may significantly affect the human environment. Under NEPA and its implementing regulations, Federal agencies must also compare effects of a reasonable range of alternatives to the proposed action. In these analyses, the Federal agency will identify potentially significant direct, indirect, and cumulative effects, as well as possible mitigation for any significant effects, on biological resources, land use, air quality, water resources, socioeconomics, environmental justice, cultural resources, and other environmental resources that could occur with the implementation of the proposed action and alternatives.

In accordance with NEPA, we announced public scoping to prepare an EIS in the Federal Register on October 30, 2014 (79 FR 64619). We published a notice of availability of the draft EIS and draft HCP, and requested public comments on those draft documents, in the Federal Register on May 12, 2017 (82 FR 22153). The May 12, 2017, notice also announced three public meetings on the draft EIS and draft HCP, which we held in June 2017, in three Nebraska cities. We reopened the comment period for the draft EIS and draft HCP in the Federal Register on September 8, 2017 (82 FR 42561). The final EIS addresses public comments on the draft EIS.

Proposed Action

We propose to issue a 50-year permit for incidental take of the American burying beetle if NPPD's HCP meets all the ESA's section 10(a)(1)(B) permit issuance criteria. The permit would authorize take of the American burying beetle incidental to the proposed construction, operation, and maintenance, including emergency repairs, of the R-Project. The permit would require NPPD to implement the final HCP, which includes measures to avoid, minimize, mitigate, and monitor the impacts of the authorized take. NPPD would avoid the incidental take of other federally listed species by implementing avoidance measures identified in the final HCP.

The 345-kilovolt R-Project transmission line would be approximately 225 miles long in north-central Nebraska. The permit would authorize take within 1 mile on each side of the R-Project centerline from Stapleton, Nebraska, north to the Thedford Substation and 4 miles on each side of the centerline from the Thedford Substation east to a new Holt County Substation.

Construction of the R-Project would permanently remove 33 acres and temporarily disturb 1,250 acres of American burying beetle habitat over the term of the permit. To fully offset these impacts to the beetle, the HCP commits NPPD to work with the Service to protect at least 500 acres of occupied American burying beetle habitat in Nebraska in perpetuity. The HCP's commitments for NPPD to restore beetle habitat would also minimize and mitigate impacts.

Public Review

We are not requesting public comments on the final EIS and HCP, but any written comments we receive will become part of the public record associated with this action. Before including your address, phone number, email address, or other personal identifying information in your comment, you should be aware that your entire comment—including your personal identifying information—may be made publicly available at any time. While you may request in your comment that we withhold your personal identifying information from public review, we cannot guarantee that we will be able to do so. All submissions from organizations or businesses and from individuals identifying themselves as representatives or officials of organizations or businesses will be made available for public disclosure in their entirety.

Next Steps

We will evaluate the permit application, final HCP, and public comments to determine whether the application meets the requirements of section 10(a) of the ESA. This determination includes our compliance with section 7 of the ESA through an intra-Service consultation. We will rely on the results of this consultation, our ROD under NEPA, and the above findings on permit issuance criteria to decide whether to issue the permit with appropriate terms and conditions. If all requirements are met, we will sign the ROD and issue the permit to NPPD. We will post the signed ROD and related documents on our website at https://www.fws.gov/nebraskaes/R-Project.php.

Authority

We provide this notice under section 10(c) of the ESA (16 U.S.C. 1531 et seq.) and its implementing regulations for incidental take permits (50 CFR 17.22) and NEPA (42 U.S.C. 4321 et seq.) and its implementing regulations (40 CFR 1506.6; 43 CFR part 46).

Michael Thabault,
Assistant Regional Director—Ecological Services, Mountain-Prairie Region, U.S. Fish and Wildlife Service, Lakewood, Colorado.

[FR Doc. 2019-01600 Filed 2-7-19; 8:45 am]

BILLING CODE 4333-15-P